DEPARTMENT OF JUSTICE

Office of Justice Programs

[OJP (BJA) Docket No. 1542]

Establishment of the Office of Justice Programs' Science Advisory Board

AGENCY: Office of Justice Programs (OJP), Justice.

ACTION: Notice of establishment of federal advisory committee.

SUMMARY: The OJP Science Advisory Board is being established in accordance with the provisions of the Federal Advisory Committee Act (FACA), as amended, 5 U.S.C., App. 2. The OJP Science Advisory Board will provide OJP, a component of the Department of Justice, with valuable advice in the areas of social science and statistics for the purpose of enhancing the overall impact and performance of its programs and activities in criminal and juvenile justice. The Board will provide input into developing long-range plans, advise on program development, and provide guidance to ensure adherence to the highest levels of scientific rigor, as appropriate. The Board will provide an important base of contact with the criminal justice academic and practitioner communities, and is necessary and in the public interest. The Board's Charter is subject to renewal and will expire two years from its filing. The OJP Science Advisory Board is continuing in nature, to remain functional until the Attorney General determines that all necessary duties have been performed.

FOR FURTHER INFORMATION CONTACT: Marlene Beckman, Designated Federal Officer (DFO), Office of the Assistant Attorney General, Office of Justice Programs, 810 7th Street Northwest, Washington, DC 20531; Phone: (202) 616-3562 [Note: this is not a toll-free number]; E-mail: marlene.beckman@usdoj.gov.

Dated: January 5, 2011.
Marlene Beckman,
Counsel and SAB DFO, Office of the Assistant Attorney General, Office of Justice Programs.

[FR Doc. 2011-290 Filed 1-10-11; 8:45 am]

BILLING CODE 4410-18-P